DEPARTMENT OF TRANSPORTATION

Federal Aviation Administration

14 CFR Part 39

[Docket No. FAA-2005-21595; Directorate Identifier 2002-NM-321-AD]

RIN 2120-AA64

Airworthiness Directives; Bombardier Model CL-215-1A10 (Water Bomber), CL-215-6B11 (CL215T Variant), and CL-215-6B11 (CL415 Variant) Series Airplanes

AGENCY: Federal Aviation Administration (FAA), Department of Transportation (DOT).

ACTION: Notice of proposed rulemaking (NPRM).

SUMMARY: The FAA proposes to supersede an existing airworthiness directive (AD) that applies to certain Bombardier Model CL-215-1A10 (Water Bomber), CL-215-6B11 (CL215T Variant), and CL-215-6B11 (CL415 Variant) series airplanes. The existing AD currently requires repetitive ultrasonic inspections to detect cracking of the lower caps of the wing front spar and rear spar, and corrective action if necessary. This proposed AD would reduce the threshold to do the initial inspections and revise the repetitive inspection interval. This proposed AD also adds a repetitive ultrasonic inspection of the wing lower skin. This proposed AD is prompted by reports of cracks in the front and rear spar lower caps. We are proposing this AD to detect and correct cracking of the lower caps of the wing front spar and rear spar, which could result in reduced structural integrity of the airplane.

DATES: We must receive comments on this proposed AD by July 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street, SW., room PL-401, on the plaza level of the Nassif Building, Washington, DC. This docket number is FAA-2005-21595; the directorate identifier for this docket is 2002-NM-321-AD.

FOR FURTHER INFORMATION CONTACT: David Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION:

Comments Invited

We invite you to submit any relevant written data, views, or arguments regarding this proposed AD. Send your comments to an address listed under ADDRESSES. Include “Docket No. FAA-2005-21595; Directorate Identifier 2002-NM-321-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On February 4, 1998, we issued AD 98-04-08, amendment 39-10321 (63 FR 7640, February 17, 1998), for certain Bombardier Model CL-215-1A10 (Water Bomber) and CL-215-6B11 (CL215T Variant), and CL-215-6B11 (CL415 Variant) series airplanes, to require repetitive ultrasonic inspections to detect cracking of the lower caps of the wing front and rear spars, and corrective action if necessary. That action was prompted by Transport Canada Civil Aviation (TCCA), which is the airworthiness authority for Canada, issuing mandatory continuing airworthiness information to detect and correct cracking of the lower caps of the wing front spar and rear spar, which could result in reduced structural integrity of the airplane.

Actions Since Existing AD Was Issued

Since we issued AD 98-04-08, cracks were found in the front and rear spar caps at wing station 51 on several in-service airplanes. Some cracks propagated through the rear spar cap and fail-safe straps into the rear spar web and lower wing skin. As a result of these cracks, TCCA issued Canadian airworthiness directives CF-1992-26R1, dated September 24, 2002, and CF-1993-07R1, dated September 25, 2002, to ensure the continued airworthiness of these airplanes in Canada. The revised Canadian airworthiness directives mandate initial ultrasonic inspections to detect cracking of the lower caps of the wing front and rear spars for airplanes with 2,500 or more flight hours or 8,000 or more water drops; and repair of any cracked spar before further flight. Canadian airworthiness directive CF-1992-26R1 also adds an ultrasonic inspection to detect cracking of the wing lower skin.

Relevant Service Information

Bombardier has issued Alert Service Bulletin 215-A454, Revision 3, dated March 13, 2001; and Alert Service Bulletin 215-A463, Revision 2, dated March 13, 2001. Revision 1 of the service bulletins was referenced in the existing AD as the source of service information for doing the ultrasonic inspections for cracking of the rear and front spar lower caps, and any necessary corrective actions. Bombardier Alert Service Bulletin 215-A454, Revision 3, dated March 13, 2001; and Bombardier Alert Service Bulletin 215-A463, Revision 2, dated March 13, 2001; contain similar actions to those specified in Revision 1 of the service bulletins. Revision 3 of Bombardier Alert Service Bulletin 215-A454 also adds repetitive ultrasonic inspections for cracking of the wing lower skin. The corrective actions include reworking the rear and front spar lower caps, repairing any cracking, and contacting the manufacturer if cracking is found. The service bulletins also specify to submit inspection results to the manufacturer.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 98-04-08 and would continue to require repetitive ultrasonic inspections for cracking of the front spar lower cap and rear spar lower cap, and corrective action if necessary. Consistent with the Canadian AD, this AD reduces the initial inspection threshold and repetitive inspection interval. This proposed AD would also require repetitive ultrasonic inspections for cracking of the wing lower skin and the submission of a report of any inspection results. This AD requires that the actions be accomplished in accordance with the service information described previously, except as discussed under “Difference Between the Proposed AD and the Service Bulletins.”

Difference Between the Proposed AD and the Service Bulletins

The service bulletins specify that you may contact the manufacturer for instructions on how to repair certain conditions, but this AD requires you to repair those conditions using a method that we or TCCA (or its delegated agent) approve. In light of the type of repair that would be required to address the unsafe condition, and consistent with existing bilateral airworthiness agreements, we have determined that, for this AD, a repair we or TCCA approve would be acceptable for compliance with this AD.

Changes to Existing AD

This proposed AD would retain certain requirements of AD 98-04-08. Since AD 98-04-08 was issued, the AD format has been revised, and certain paragraphs have been rearranged. As a result, the corresponding paragraph identifiers have changed in this proposed AD, as listed in the following table:

Revised Paragraph Identifiers
Requirement in AD 98-04-08 | Corresponding requirement in this proposed AD
Paragraph (a) | Paragraphs (f), (g), (h) and (j).

In addition, we have revised the applicability of the existing AD to identify model designations as published in the most recent type certificate data sheet for the affected models.

Clarification of Inspection Language

The service bulletins and the Canadian airworthiness directives state that operators should “visually inspect” for certain cracks. This proposed AD refers to that inspection as a general visual inspection. We have defined this type of inspection in Note 1 of the proposed AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Costs of Compliance

This proposed AD would affect about 3 airplanes of U.S. registry.

The actions that are required by AD 98-04-08 and retained in this proposed AD take about 16 work hours per airplane, at an average labor rate of $65 per work hour. Based on these figures, the estimated cost of the currently required actions is $1,040 per airplane, per inspection cycle.

The new proposed inspection would take about 1 work hour per airplane, at an average labor rate of $65 per work hour. Based on these figures, the estimated cost of the new inspections specified in this proposed AD for U.S. operators is $195, or $65 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10321 (63 FR 7640, February 17, 1998) and adding the following new airworthiness directive (AD):

Bombardier, Inc. (Formerly Canadair): Docket No. FAA-2005-21595; Directorate Identifier 2002-NM-321-AD.

Comments Due Date

(a) The Federal Aviation Administration must receive comments on this AD action by July 22, 2005.

Affected ADs

(b) This AD supersedes AD 98-04-08, amendment 39-10321 (63 FR 7640, February 17, 1998).

Applicability

(c) This AD applies to Bombardier Model CL-215-1A10 (Water Bomber) and CL-215-6B11 (CL215T Variant), and CL-215-6B11 (CL415 Variant) series airplanes; certificated in any category; serial numbers 1001 through 1125 inclusive.

Unsafe Condition

(d) This AD was prompted by reports of cracks in the front and rear spar lower caps. We are issuing this AD to detect and correct cracking of the lower caps of the wing front spar and rear spar, which could result in reduced structural integrity of the airplane.

Compliance

(e) You are responsible for having the actions required by this AD performed within the compliance times specified, unless the actions have already been done.

Restatement of Certain Requirements of AD 98-04-08

Initial Inspection of AD 98-04-08 With New Threshold

(f) At the time specified in paragraph (g) of this AD: Perform an ultrasonic inspection to detect cracking of the lower cap of the wing front and rear spars at wing station 51, in accordance with the Accomplishment Instructions of Canadair Alert Service Bulletin 215-A463, Revision 1, dated May 25, 1995, or Bombardier Alert Service Bulletin 215-A463, Revision 2, dated March 13, 2001 (for the front spar); and Canadair Alert Service Bulletin 215-A454, Revision 1, dated May 25, 1995, Bombardier Service Bulletin 215-A454, Revision 2, dated January 27, 1999, or Bombardier Alert Service Bulletin 215-A454, Revision 3, dated March 13, 2001 (for the rear spar). As of the effective date of this AD, the inspection must be done in accordance with the Accomplishment Instructions of Bombardier Alert Service Bulletin 215-A463, Revision 2, dated March 13, 2001 (for the front spar); and Bombardier Alert Service Bulletin 215-A454, Revision 3, dated March 13, 2001 (for the rear spar).

(g) Do the inspections required by paragraph (f) of this AD at the earlier of the times specified in paragraphs (g)(1) and (g)(2) of this AD.

(1) Prior to the accumulation of 3,000 total flight hours, or within 25 flight hours after March 4, 1998 (the effective date of AD 98-04-08), whichever occurs later.

(2) At the later of the times specified in paragraphs (g)(2)(i) and (g)(2)(ii) of this AD.

(i) Prior to the accumulation of 2,500 total flight hours, or 8,000 total water drops, whichever occurs first.

(ii) Within 50 flight hours or 150 water drops after the effective date of this AD, whichever occurs first.

Repetitive Inspections With New Intervals

(h) Repeat the ultrasonic inspection specified in paragraph (f) of this AD at the times specified in paragraph (h)(1) or (h)(2) of this AD, as applicable.

(1) For airplanes on which any ultrasonic inspection required by paragraph (a) of AD 98-04-08 has been done before the effective date of this AD: Within 600 flight hours after the last ultrasonic inspection, do the ultrasonic inspection specified in paragraph (f) of this AD. Repeat the ultrasonic inspection specified in paragraph (f) of this AD thereafter at intervals not to exceed 600 flight hours or 2,000 water drops, whichever occurs first.

(2) For airplanes on which the ultrasonic inspection required by paragraph (a) of AD 98-04-08 has not been done before the effective date of this AD: After accomplishing the initial ultrasonic inspection specified in paragraph (f) of this AD, repeat the ultrasonic inspection specified in paragraph (f) of this AD thereafter at intervals not to exceed 600 flight hours or 2,000 water drops, whichever occurs first.

New Requirements of This AD

New Ultrasonic Inspection

(i) At the later of the times specified in paragraphs (i)(1) and (i)(2) of this AD, do an ultrasonic inspection for cracks of the wing lower skin, in accordance with Bombardier Alert Service Bulletin 215-A454, Revision 3, dated March 13, 2001. Thereafter, do the ultrasonic inspection for cracks of the wing lower skin at the times specified for the ultrasonic inspection in paragraph (h) of this AD.

(1) Within 50 flight hours or 150 water drops after the effective date of this AD, whichever occurs first.

(2) Before further flight after accomplishing the first ultrasonic inspection required by paragraph (f) or (h) of this AD after the effective date of this AD.

Cracking Detected

(j) If any cracking is detected during any inspection required by paragraph (f), (h), or (i) of this AD, before further flight, accomplish paragraphs (j)(1) and (j)(2) of this AD.

(1) Rework the lower cap of the front or rear spar, as applicable, in accordance with the Accomplishment Instructions of Bombardier Alert Service Bulletin 215-A463, Revision 2, dated March 13, 2001 (for the front spar); and Bombardier Alert Service Bulletin 215-A454, Revision 3, dated March 13, 2001 (for the rear spar).

(2) After doing the rework specified in paragraph (j)(1) of this AD, do a general visual inspection, from inside the wing box, to detect cracks of the front spar web or rear spar web, as applicable, and the lower skin area, in accordance with the Accomplishment Instructions of Bombardier Alert Service Bulletin 215-A463, Revision 2, dated March 13, 2001 (for the front spar); and Bombardier Alert Service Bulletin 215-A454, Revision 3, dated March 13, 2001 (for the rear spar). If any cracking is detected, before further flight, repair in accordance with a method approved by the Manager, New York Aircraft Certification Office (ACO), FAA; or Transport Canada Civil Aviation (TCCA) (or its delegated agent).

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished According to Previous Issues of the Service Bulletins

(k) Actions accomplished before the effective date of this AD in accordance with Canadair Alert Service Bulletin 215-A463, dated April 8, 1993; Canadair Alert Service Bulletin 215-A463, Revision 1, dated May 25, 1995; Canadair Alert Service Bulletin 215-A454, dated October 13, 1993; Canadair Alert Service Bulletin 215-A454, Revision 1, dated May 25, 1995; and Canadair Alert Service Bulletin 215-A454, Revision 2, dated January 27, 1999; are considered acceptable for compliance with the corresponding actions specified in this AD.

Actions Accomplished According to Alert Wire

(l) Actions accomplished before the effective date of this AD in accordance with Bombardier Alert Wire 215-A454, dated December 23, 1992; and Bombardier Alert Wire 215-A463, dated March 26, 1993; are considered acceptable for compliance with the corresponding actions specified in this AD.

Reporting Requirement

(m) For any inspection required by this AD that is accomplished after the effective date of this AD, within 30 days after accomplishing the inspection, submit a report of any inspection results (both positive and negative findings) to Bombardier, Inc., Canadair, Aerospace Group, P.O. Box 6087, Station Centre-ville, Montreal, Quebec H3C 3G9, Canada. Under the provisions of the Paperwork Reduction Act of 1980 (44 U.S.C. 3501 et seq.), the Office of Management and Budget (OMB) has approved the information collection requirements contained in this AD, and assigned OMB Control Number 2120-0056.

Alternative Methods of Compliance (AMOCs)

(n) The Manager, New York ACO, FAA, has the authority to approve AMOCs for this AD, if requested in accordance with the procedures found in 14 CFR 39.19.

Related Information

(o) Canadian airworthiness directives CF-1992-26R1, dated September 24, 2002, and CF-1993-07R1, dated September 25, 2002, also address the subject of this AD.

Issued in Renton, Washington, on June 14, 2005.
Kevin M. Mullin,
Acting Manager, Transport Airplane Directorate, Aircraft Certification Service.

[FR Doc. 05-12302 Filed 6-21-05; 8:45 am]

BILLING CODE 4910-13-P